DEPARTMENT OF ENERGY

Federal Energy Regulatory Commission

[Docket No. EL15-8-000]

Golden Spread Electric Cooperative, Central Valley Electric Cooperative, Inc., Farmers' Electric Cooperative, Inc., Lea County Electric Cooperative, Inc., Roosevelt County Electric Cooperative, Inc., West Texas Municipal Power Agency (Complainants) v. Southwestern Public Service Company (Respondent); Notice of Complaint

Take notice that on October 20, 2014, pursuant to Rule 206 of the Federal Energy Regulatory Commission's (Commission) Rules of Practice and Procedure, 18 CFR 385.206 and sections 201, 206, and 306 of the Federal Power Act, 16 U.S.C. 824, 824(e), and 825(e), Golden Spread Electric Cooperative, Central Valley Electric Cooperative, Inc., Farmers' Electric Cooperative, Inc., Lea County Electric Cooperative, Inc., Roosevelt County Electric Cooperative, Inc., and West Texas Municipal Power Agency (collectively, Complainants) filed a formal complaint against Southwestern Public Service Company (SPS or Respondent), alleging that the production formula rate of each of their respective Replacement Power Sales Agreements with SPC and that the open access transmission tariff formula rate applicable to pricing of transmission service over the facilities of SPS contain an unjust and unreasonable rate of return of common equity. In addition, the Complainants request that this proceeding be consolidated with Docket Nos. EL13-78-000 and EL12-59-000.

The Complainants certifies that copies of the complaint were served on the contacts for SPS as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 30, 2014.

Dated: October 21, 2014.
Kimberly D. Bose,
Secretary.

[FR Doc. 2014-25542 Filed 10-27-14; 8:45 am]

BILLING CODE 6717-01-P